DEPARTMENT OF JUSTICE

Notice of Lodging of Consent Decree Pursuant to the Solid Waste Disposal Act, as Amended by the Resource Conservation and Recovery Act of 1976 and the Hazardous and Solid Waste Amendments of 1984

The United States Department of Justice gives notice that on December 18, 2006, a proposed consent decree was lodged in United States v. WCI Steel, Inc., Civil Action No. 4:06-CV-03000, in the United States District Court for the Northern District of Ohio.

The consent decree resolves claims of the United States against WCI Steel, Inc. (“Reorganized WCI”), the current owner and operator of the WCI Steel facility in Warren, Ohio (“Facility”), under Section 7003 of the Solid Waste Disposal Act, as amended by the Resource Conservation and Recovery Act of 1976 and the Hazardous and Solid Waste Amendments of 1984 (“RCRA”), 42 U.S.C. 6973. The United States' complaint alleges that Reorganized WCI has willfully violated, or failed or refused to comply with, a RCRA Section 7003 administrative order (“Order”) issued by the United States Environmental Protection Agency (“U.S. EPA”) to WCI Steel, Inc. (“Debtor WCI”), the prior owner and operator of the Facility before its reorganization in bankruptcy. The complaint seeks an order from the court requiring that Reorganized WCI comply with the Order and to pay penalties for violations of the Order since it acquired the Facility through Debtor WCI's bankruptcy case on May 1, 2006.

The proposed consent decree would require Reorganized WCI to implement specified measures to reduce risks to birds and wildlife due to the management of oily wastes at impoundments at the Facility. In addition, under the consent decree, Reorganized WCI would be required to pay a civil penalty to the United States in the amount of $620,000.00. This penalty would be paid through resolution of claims of the United States (set forth in a proof of claim and administrative proof of claim) for penalties relating to Debtor WCI's alleged violations of the Order submitted in Debtor WCI's bankruptcy case in the United States Bankruptcy Court for the Northern District of Ohio (In re: WCI Steel, Inc., et al., Case No. 05-81439). The Consent Decree would also resolve all claims for civil liability of Debtor WCI to the United States for the violations of the Order alleged in the United States' claims in the bankruptcy case.

The Department of Justice will receive, for a period of thirty (30) days from the date of this publication, comments relating to the proposed consent decree. Comments should be addressed to the Assistant Attorney General, Environment and Natural Resources Division, United States Department of Justice, P.O. Box 7611, Ben Franklin Station, Washington, DC 20074-7611, and should refer to United States v. WCI Steel, Inc., DOJ Ref. 90-5-1-1-5027/1. Commenters may request an opportunity for a public meeting in the affected area, in accordance with Section 7003(d) of RCRA, 42 U.S.C. 6973(d).

The consent decree may be examined at the Office of the United States Attorney for the Northern District of Ohio, United States Courthouse, 801 W. Superior Avenue, Suite 400, Cleveland, Ohio 44113 and at the offices of the United States Environmental Protection Agency, Region 5, 77 W. Jackson Blvd., Chicago, Illinois 60604. During the public comment period, the consent decree may also be examined on the following Justice Department Web site: http://www.usdoj.gov/enrd/Consent_Decrees.html. A copy of the consent decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $20.50 (25 cents per page reproduction cost) payable to the U.S. Treasury or, if by e-mail or fax, forward a check in that amount to the Consent Decree Library at the stated address.

William D. Brighton,
Assistant Chief, Environmental Enforcement Section, Environment and Natural Resources Division.

[FR Doc. 06-9845 Filed 12-22-06; 8:45 am]

BILLING CODE 4410-15-M